DEPARTMENT OF JUSTICE

Notice of Lodging of Proposed Consent Decree Under the Comprehensive Environmental Response, Compensation and Liability Act

On April 21, 2016, the Department of Justice lodged a proposed consent decree with the United States District Court for the Western District of Washington in the lawsuit entitled United States v. Clallam County, Washington, et al., Civil Action No. 16-5300.

The United States filed this lawsuit under the Comprehensive Environmental Response, Compensation, and Liability Act (“CERCLA”) against Clallam County, Washington, the Washington Department of Natural Resources, and the Washington National Guard. The complaint seeks recovery of costs incurred by the United States Environmental Protection Agency in responding to the release of hazardous substances at the Salt Creek Firing Range Site located primarily in Clallam County, Washington. The consent decree resolves the liability of the three defendants named in the lawsuit, as well as the United States Army Corps of Engineers and the United States Coast Guard. The United States, on behalf of the Army Corps of Engineers and the Coast Guard, will pay $579,198.03; Clallam County will pay $165,485.15; Washington State Department of Natural Resources will pay $74,468.32; and the Washington National Guard will pay $8,274.26. In return, the United States agrees not to sue the defendants under Section 107 of CERCLA.

Publication of this notice opens a period for public comment on the proposed consent decree. Comments should be addressed to the Assistant Attorney General, Environment and Natural Resources Division, and should refer to United States v. Clallam County, Washington, et al., D.J. Ref. No. 90-11-3-10945. All comments must be submitted not later than thirty (30) days after the publication of this notice. Comments may be submitted either by email or by mail:

To submit comments: | Send them to:
By e-mail | pubcomment-ees.enrd@usdoj.gov
By mail | Assistant Attorney General, U.S. DOJ—ENRD, P.O. Box 7611, Washington, DC 20044-7611.

During the public comment period, the proposed consent decree may be examined and downloaded at this Justice Department Web site: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $6.50 (25 cents per page reproduction cost) payable to the United States Treasury.

Susan M. Akers,
Assistant Section Chief, Environmental Enforcement Section, Environment and Natural Resources Division.

[FR Doc. 2016-09918 Filed 4-27-16; 8:45 am]

BILLING CODE 4410-15-P